FEDERAL RETIREMENT THRIFT INVESTMENT BOARD

Notice of March 23, 2020 FRTIB Board Member Meeting: Correction

AGENCY: Federal Retirement Thrift Investment Board.

ACTION: Notice, Correction.

SUMMARY:

Due to the COVID-19 pandemic, the March 23, 2020 FRTIB Board Member meeting will be conducted telephonically and not at the Agency's 77 K St., Washington, DC location. Members of the public who are interested in the meeting can listen to the meeting by calling 1-877-446-3914 and using passcode 8249934.

Issues caused by national higher-than-normal usage of phone lines may limit the number of individuals able to listen in on the meeting. Material relating to FRTIB Board meetings is available at frtib.gov.

Contact Person for More Information: Kimberly Weaver, Director, Office of External Affairs, (202) 942-1640.

Dated: March 17, 2020.
Megan Grumbine,
General Counsel, Federal Retirement Thrift Investment Board.

[FR Doc. 2020-05892 Filed 3-19-20; 8:45 am]

BILLING CODE 6760-01-P